DEPARTMENT OF JUSTICE

Antitrust Division

Notice Pursuant to the National Cooperative Research and Production Act of 1993—DVD Copy Control Association

Notice is hereby given that, on October 1, 2004, pursuant to section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, AKI Digital Electrical Appliance Co., Ltd., Shenzhen, People's Republic of China; Bcom Electronics, Inc., Taipei, Taiwan,; Dahaam E-Tec Co., Ltd., Seoul, Republic of Korea; Dalian Golden Hualu Digital Technology Co., Ltd., Dalian, People's Republic of China; Dephi Technology Inc., Taipei Hsien, Taiwan; Disctronics Texas, Inc. dba DiscUSA, Plano, TX; GP Industries Limited, Singapore, Singapore; Hamg Shing Technology Corp., Chu Pei City, Taiwan; Hyo Seong Techno Corporation, Seoul, Republic of Korea; Jiangsu Hongtu High Technology Co.; Ltd. Nanjing, People's Republic of China; Malata Seeing & Hearing Equipment Co., Ltd., Fujian, People's Republic of China; Mikasa Shoji Co., Ltd., Osaka, Japan; Realtek Semiconductor Corp., Hsinchu, Taiwan; Technew Electronic Engineering Co., Ltd., Taipei, Taiwan; Vtrek Electronics Co., Ltd., Guangzhou City, People's Republic of China; and Watye Corporation, Taipei, Taiwan have been added as parties to this venture. Also, UL Tran Technology & Service, Taipei Hsien, Taiwan has been dropped as a party to this venture.

No other changes have been made in either the membership or planned activity of the group research project. Membership in this group research project remains open, and DVD CCA intends to file additional written notification disclosing all changes in membership.

On April 11, 2001, DVD CCA filed its original notification pursuant to section 6(a) of the Act. The Department of Justice published a notice in the Federal Register pursuant to section 6(b) of the Act on August 3, 2001 (66 FR 40727).

The last notification was filed with the Department on July 23, 2004. A notice was published in the Federal Register pursuant to section 6(b) of the Act on August 24, 2004 (69 FR 52031).

Dorothy B. Fountain,
Deputy Director of Operations, Antitrust Division.

[FR Doc. 04-26207 Filed 11-26-04; 8:45 am]

BILLING CODE 4410-11-M